SURFACE TRANSPORTATION BOARD

[Docket No. FD 36722]

Chicago, Central & Pacific Railroad Company—Trackage Rights Exemption—Cedar River Railroad Company

Chicago, Central & Pacific Railroad Company (CCP) has filed a verified notice of exemption under 49 CFR 1180.2(d)(7) for acquisition of overhead trackage rights over approximately 41.5 miles of rail line owned by Cedar River Railroad Company (CEDR) ¹ between milepost 0.0 at Mona Junction in Cedar Falls, Iowa, and milepost 41.5 in Charles City, Iowa (the Line).

¹ The verified notice states that both CCP and CEDR are indirect rail carrier subsidiaries of Canadian National Railway Company (CN), whose U.S. rail carrier subsidiaries (including CCP and CEDR) are held directly or indirectly by CN's wholly owned subsidiary Grand Trunk Corporation. See Canadian Nat'l Ry.—Control—Ill. Cent. Corp., 4 S.T.B. 122 (1999); Ill. Cent. Corp.—Control—CCP Holdings, Inc., FD 32858 (STB served May 14, 1996).

CCP and CEDR have entered into a March 23, 2023 written trackage rights agreement ² that grants CCP overhead trackage rights over the Line. According to the verified notice, the transaction, together with another transaction that would grant CCP and CEDR limited trackage rights over a connecting rail line owned by Dakota, Minnesota & Eastern Railroad Company (DM&E),³ will permit CCP to operate trains with its own crews between Mona Junction in Cedar Falls and Valero Marketing & Supply Company's ethanol facility in Floyd County, Iowa.

² A redacted version of the trackage rights agreement was filed with the verified notice. An unredacted version of the agreement was submitted to the Board under seal concurrently with a motion for protective order, which was granted in a decision served on September 7, 2023.

³ In a related proceeding, CCP and CEDR have filed a verified notice of exemption under 49 CFR 1180.2(d)(7) for the acquisition of limited local trackage rights over approximately 3.75 miles of rail line owned by DM&E, between milepost 88.85 in Charles City and the east mainline switch to the Valero ethanol facility at approximately milepost 92.6, west of Charles City. See Cedar River R.R.—Trackage Rts. Exemption—Dakota, Minn. & E. R.R., Docket No. FD 36721.

As a condition to this exemption, any employees affected by the acquisition of the trackage rights will be protected by the conditions imposed in Norfolk & Western Railway—Trackage Rights—Burlington Northern, Inc., 354 I.C.C. 605 (1978), as modified by Mendocino Coast Railway—Lease & Operate—California Western Railroad, 360 I.C.C. 653 (1980).

The transaction may be consummated on or after October 1, 2023, the effective date of the exemption. If the verified notice contains false or misleading information, the exemption is void ab initio. Petitions to revoke the exemption under 49 U.S.C. 10502(d) may be filed at any time. The filing of a petition to revoke will not automatically stay the effectiveness of the exemption. Petitions for stay must be filed no later than September 22, 2023 (at least seven days before the exemption becomes effective).

All pleadings, referring to Docket No. FD 36722, must be filed with the Surface Transportation Board via e-filing on the Board's website or in writing addressed to 395 E Street SW, Washington, DC 20423-0001. In addition, a copy of each pleading must be served on Applicants' representative, Thomas J. Litwiler, Fletcher & Sippel LLC, 29 North Wacker Drive, Suite 800, Chicago, IL 60606.

According to CCP, this action is categorically excluded from environmental review under 49 CFR 1105.6(c) and from historic preservation reporting requirements under 49 CFR 1105.8(b).

Board decisions and notices are available at www.stb.gov.

Decided: September 12, 2023.
By the Board, Mai T. Dinh, Director, Office of Proceedings.
Kenyatta Clay,
Clearance Clerk.

[FR Doc. 2023-20025 Filed 9-14-23; 8:45 am]

BILLING CODE 4915-01-P